DEPARTMENT OF COMMERCE

Foreign-Trade Zones Board

[B-53-2024]

Foreign-Trade Zone (FTZ) 196, Notification of Proposed Production Activity; RECARO Aircraft Seating Americas, LLC; (Aircraft Seats); Fort Worth, Texas

RECARO Aircraft Seating Americas, LLC submitted a notification of proposed production activity to the FTZ Board (the Board) for its facilities in Fort Worth, Texas within FTZ 196. The notification conforming to the requirements of the Board's regulations (15 CFR 400.22) was received on October 9, 2024.

Pursuant to 15 CFR 400.14(b), FTZ production activity would be limited to the specific foreign-status materials/components and specific finished product described in the submitted notification (summarized below) and subsequently authorized by the Board. The benefits that may stem from conducting production activity under FTZ procedures are explained in the background section of the Board's website—accessible via www.trade.gov/ftz.

The proposed finished product is aircraft seats (duty rate is duty-free).

The proposed foreign-status materials/components include: plastic components (logos; placards; coat hooks; attachment tapes; bearing bushings; bezels; table latch plates; bumper panels; bumper strips; rigid cable conduits; cable plates; cable protection plates; cable routing plates; in-arm table compartment inserts; connection plates; seat covers; armrest and tilt finger protection plates; hinge arm cap covers; literature insert pockets; seat panel covers; electronics receptacles; seatbelt limiters; actuator sleeves; backrest sliders; spacers; in-arm table stops; stop plates; stop seatbelt limiters; table backrests; table retainers; cable bags; armrests; attachment table arms; handicap armrests; in-arm table panel covers; armrest inserts; backrest links; armrest reinforcements; seat actuator sliding blocks; wedges); stainless steel leg springs; steel components (screws; front studs; nuts; rings; washers; rivets; bolts; flange bushings; pins; spring pins; spring actuators; springs; in-arm table hinges; anti-twist cable protections; zinc plated retaining clips; seatbelt shackles; armrest sleeves); aluminum components (barrel nuts; attachment sheets for seats; mounting and holding support brackets and hooks; bushings; base plates; clips to attach seat bottoms; seat connectors; in-arm table subassemblies; corner baggage bars; housing lids; limiter stops; backrest attachment bows; stowage attachment brackets; armrest attachment strips; structural seat beams; clamps; seat bottom clampings; seat contour sheets; cover sheets protecting seat cables; seat base frame diagonal bars; disconnect housings; seat footrests; backrest frames; base frame guides; backrest holders; console holding plates; armrest holding straps; horizontal seat base bars; video arm joints; video arm joint halfs; backrest actuator components; leg rests; seat base frame limitation sheets; headrest limiters; locking plates; base seat frame plates; seat dividers; seat spreaders that separate individual airline seats; seat legs; sheet arm cap uppers to protect cables in seat armrests; in-arm table structural sheets; seat side panels; armrest side plates; armrest sliders supporting video arms; aisle-side steps; backrest structures; frames supporting seat backrests; armrest structure sheets; struts; armrest supports; support plates; routing cable support sheets; torsion tubes; traverse profiles; structural armrest web inners and web outers); actuators; static converter power supplies; radio frequency identification tags; uncovered aircraft seats; anti-rattle nuts; fold out tables; assemblies (console; headrest; plastic seatback screen holder; arm cap; steel backrest couple; guide bearing; housing; aluminum in-arm table; release mechanism; plastic table arm; plastic in-arm table; aluminum seat bottom tube; aluminum video arm); latchseat bottoms; life vest containers; plastic and aluminum components (plug baggage bars; structure headrests; armrest structures); stop actuators; polyamide fabric cable bags; dampers; polyester fabric undercover seat backings; backrests; life vest pouches; combed wool woven fabric seat pockets; artificial leather (polyurethane-coated polyester fabric) backrest narrows; flat polyester ribbon life vest container straps; strap life vests; baggage bars; bearings; bolt actuators; connector housings; cross struts; leather and woven combed wool fabric seat dress covers; escutcheons; foam seat cushions; seat kick panels; levers; plain bearing bushings; retaining springs; seat bottoms; slide rings; spring clips; spring cotters; spring stops; tilt mechanisms; and, web link seatbelts (duty rate ranges from duty-free to 8.5%). The request indicates that certain materials/components are subject to duties under section 232 of the Trade Expansion Act of 1962 (section 232) or section 301 of the Trade Act of 1974 (section 301), depending on the country of origin. The applicable section 232 and section 301 decisions require subject merchandise to be admitted to FTZs in privileged foreign (PF) status (19 CFR 146.41). The request also indicates that certain leg springs, aluminum seat dividers, and seat legs are subject to an antidumping/countervailing duty (AD/CVD) order/investigation if imported from certain countries. The Board's regulations (15 CFR 400.13(c)(2)) require that merchandise subject to AD/CVD orders, or items which would be otherwise subject to suspension of liquidation under AD/CVD procedures if they entered U.S. customs territory, be admitted to the zone in PF status.

Public comment is invited from interested parties. Submissions shall be addressed to the Board's Executive Secretary and sent to: ftz@trade.gov. The closing period for their receipt is November 26, 2024.

A copy of the notification will be available for public inspection in the “Online FTZ Information System” section of the Board's website.

For further information, contact Juanita Chen at juanita.chen@trade.gov.

Dated: October 11, 2024.
Elizabeth Whiteman,
Executive Secretary.

[FR Doc. 2024-23986 Filed 10-16-24; 8:45 am]

BILLING CODE 3510-DS-P